DEPARTMENT OF LABOR

Employment and Training Administration

[TA-W-60,628]

Quadrafab Corporation, Integral Fabrication Corporation, Plattsburgh, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 17, 2007, applicable to workers of QuadraFab Corporation, Plattsburgh, New York. The notice was published in the Federal Register on February 7, 2007 (72 FR 5748).

At the request of the State agency, the Department reviewed the certification for workers of the subject firm. The workers were engaged in the production of heated food display cases and fire alarm boxes.

New information shows that in early 2006, QuadraFab Corporation purchased a portion of the assets of Integral Fabrication Corporation. Workers separated from employment at the subject firm had their wages reported under separate unemployment insurance (UI) tax accounts for both QuadraFab Corporation and Integral Fabrication Corporation.

Accordingly, the Department is amending the certification to properly reflect this matter.

The intent of the Department's certification is to include all workers of QuadraFab Corporation who were adversely affected by a shift in production to Canada.

The amended notice applicable to TA-W-60,628 is hereby issued as follows:

“All workers of QuadraFab Corporation, Integral Fabrication Corporation, Plattsburgh, New York, who became totally or partially separated from employment on or after December 15, 2005, through January 19, 2009, are eligible to apply for adjustment assistance under Section 223 of the Trade Act of 1974, and are also eligible to apply for alternative trade adjustment assistance under Section 246 of the Trade Act of 1974.”

Signed at Washington, DC, this 6th day of March 2007.
Elliott S. Kushner,
Certifying Officer, Division of Trade Adjustment Assistance.

[FR Doc. E7-4579 Filed 3-13-07; 8:45 am]

BILLING CODE 4510-FN-P